ENVIRONMENTAL PROTECTION AGENCY

[FRL-9912-44-OA]

Notification of a Joint Public Meeting and Joint Teleconferences of the Chartered Science Advisory Board and Chartered Board of Scientific Counselors and a Briefing Teleconference for New SAB Members

AGENCY: Environmental Protection Agency (EPA).

ACTION: Notice of meeting.

SUMMARY: The Environmental Protection Agency (EPA) Science Advisory Board (SAB) Staff Office announces a joint public meeting of the Chartered SAB and the EPA's Office of Research and Development (ORD) Chartered Board of Scientific Counselors (BOSC) to develop strategic advice on ORD's research activities, six joint SAB-BOSC public teleconference calls to prepare for the face-to-face meeting, and one public teleconference to orient new SAB members to ORD's work.

DATES: The joint SAB-BOSC public meeting will be held on Thursday, July 24, 2014 from 10:00 a.m. to 5:30 p.m. and Friday, July 25, 2014 from 8:30 a.m. to 2:00 p.m. ET. There will be six joint SAB-BOSC teleconferences, one for each ORD research program. The joint SAB-BOSC teleconferences will be held: (1) For the Human Health Risk Assessment program on July 1, 2014, from 3:00 p.m. to 4:30 p.m. Eastern Time (ET); (2) for the Air, Climate and Energy program on July 3, 2014, from 10:00 a.m. to 12:00 p.m. ET; (3) for the Chemical Safety for Sustainability program on July 3, 2014, from 1:30 p.m. to 3:30 p.m. ET; (4) for the Homeland Security program on July 7, 2014, from 9:00 a.m. to 11:00 a.m. ET; (5) for the Sustainable and Health Communities program on July 10, 2014, from 2:00 p.m. to 4:00 p.m. ET; and (6) for the Safe and Sustainable Water Resources program on July 17, 2014, from 1:00 p.m. to 3:00 p.m. ET.

The teleconference to provide an overview of ORD's mission and role for SAB members will be held on June 24, 2014, from 10:00 a.m. to 12:00 p.m. ET.

ADDRESSES: All the teleconferences will be held by teleconference only. The face-to-face meeting will be held at the Washington Marriott Georgetown, 1221 22nd Street, Washington, DC 20037.

FOR FURTHER INFORMATION CONTACT: Any member of the public who wishes further information concerning the meetings may contact Dr. Angela Nugent, Designated Federal Officer (DFO), EPA Science Advisory Board (1400R), U.S. Environmental Protection Agency, 1200 Pennsylvania Avenue NW., Washington, DC 20460; via telephone/voice mail (202) 564-2218, fax (202) 202-565-2098; or email at nugent.angela@epa.gov. General information concerning the SAB can be found on the EPA Web site at http://www.epa.gov/sab.

SUPPLEMENTARY INFORMATION:

Background

The SAB was established pursuant to the Environmental Research, Development, and Demonstration Authorization Act (ERDDAA), codified at 42 U.S.C. 4365, to provide independent scientific and technical advice to the Administrator on the technical basis for Agency positions and regulations. The BOSC was established by the EPA to provide advice, information, and recommendations regarding the ORD research program. The SAB and BOSC are Federal Advisory Committees chartered under the Federal Advisory Committee Act (FACA), 5 U.S.C., App. 2. Pursuant to FACA and EPA policy, notice is hereby given that the chartered SAB and chartered BOSC will hold preparatory teleconferences and a joint meeting to develop advice on future directions for ORD's research programs. The SAB and BOSC will comply with the provisions of FACA and all appropriate SAB Staff Office procedural policies.

ORD research programs are structured to understand environmental problems and inform sustainable solutions to meet EPA's strategic goals. The research programs comprise six program areas: Air, Climate, and Energy; Safe and Sustainable Water Resources; Sustainable and Healthy Communities; Chemical Safety for Sustainability; Human Health Risk Assessment; and Homeland Security.

ORD requested that the SAB work jointly with the BOSC in 2011 to provide early advice on ORD strategic research directions. In response, the SAB and BOSC provided a report, Office of Research and Development (ORD) New Strategic Research Directions: A Joint Report of the Science Advisory Board (SAB) and ORD Board of Scientific Councilors (BOSC), EPA-SAB-12-001. After receiving this advisory report, ORD requested additional advice from the SAB and BOSC on ORD's research implementation plans, efforts to strengthen program integration and efforts to strengthen and measure innovation. In response, the SAB and BOSC provided a report, Implementation of ORD Strategic Research Plans: A Joint Report of the Science Advisory Board and ORD Board of Scientific Counselors (EPA-SAB-12-012).

ORD is now requesting the SAB and BOSC to provide advice to inform the agency's development of Strategic Research Action Plans to cover the period 2016-2019. To address this request, the SAB and BOSC have planned a series of meetings: (1) A face-to-face meeting on this topic on July 24-25, 2014; (2) teleconferences devoted to each of the six ORD research so that ORD can brief SAB and BOSC members on ORD programs and so that SAB and BOSC members can discuss ORD's charge to their committees and preparations for the July 24-25, 2014 public meeting; and (3) a teleconference for ORD to provide a general background briefing on ORD's mission and role for new SAB members on June 24, 2014.

Availability of Meeting Materials

A meeting agenda and other materials for the meeting will be placed on the SAB Web site at http://epa.gov/sab.

Procedures for Providing Public Input

Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit relevant comments for a federal advisory committee to consider as it develops advice for EPA. Interested members of the public may submit relevant written or oral information on the topic of this advisory activity, and/or the group conducting the activity, for the SAB and BOSC to consider during the advisory process. Input from the public to the SAB and BOSC will have the most impact if it provides specific scientific or technical information or analysis for them to consider or if it relates to the clarity or accuracy of the technical information. Members of the public wishing to provide comment should contact the DFO directly.

Oral Statements: In general, individuals or groups requesting to make an oral presentation at a public meeting will be limited to five minutes and individuals or groups requesting an oral presentation at a public teleconference will be limited to three minutes. Each person making an oral statement should also consider providing written comments so that the points presented orally can be expanded upon in writing. Interested parties should contact Dr. Angela Nugent, DFO, in writing (preferably via email) at the contact information noted above by July 17, 2014 to be placed on the list of public speakers for the joint SAB-BOSC public meeting. Parties interested in providing oral statements at any of the teleconferences should contact Dr. Angela Nugent seven days in advance of the scheduled teleconference. Written Statements: Written statements for the joint public meeting should be supplied to Dr. Angela Nugent, DFO, via email at the contact information noted above by July 17, 2014 so that the information may be made available to the Panel members for their consideration. Parties interested in providing written comment for consideration at any of the teleconferences should contact Dr. Angela Nugent seven days in advance of the scheduled teleconference.

Written statements should be supplied in one of the following electronic formats: Adobe Acrobat PDF, MS Word, MS PowerPoint, or Rich Text files in IBM-PC/Windows 98/2000/XP format. It is the SAB Staff Office general policy to post written comments on the Web page for advisory meetings or teleconferences. Submitters are requested to provide an unsigned version of each document because the SAB Staff Office does not publish documents with signatures on its Web sites. Members of the public should be aware that their personal contact information, if included in any written comments, may be posted to the SAB Web site. Copyrighted material will not be posted without explicit permission of the copyright holder.

Accessibility

For information on access or services for individuals with disabilities, please contact Dr. Nugent at the phone number or email address noted above, preferably at least ten days prior to the meeting, to give EPA as much time as possible to process your request.

Dated: June 11, 2014.
Thomas H. Brennan,
Deputy Director, EPA Science Advisory Board Staff Office.

[FR Doc. 2014-14244 Filed 6-17-14; 8:45 am]

BILLING CODE 6560-50-P